NUCLEAR REGULATORY COMMISSION

[NRC-2016-0001]

Sunshine Act Meeting Notice

DATES: October 10, 17, 24, 31, November 7, 14, 2016.

PLACE: Commissioners' Conference Room, 11555 Rockville Pike, Rockville, Maryland.

STATUS: Public and Closed.

Week of October 10, 2016

There are no meetings scheduled for the week of October 10, 2016.

Week of October 17, 2016—Tentative

Tuesday, October 18, 2016

9:30 a.m. Strategic Programmatic Overview of the Decommissioning and Low-Level Waste and Spent Fuel Storage and Transportation Business Lines (Public Meeting) (Contact: Janelle Jessie: 301-415-6775)

This meeting will be webcast live at the Web address— http://www.nrc.gov/.

Thursday, October 20, 2016

9:30 a.m. Strategic Programmatic Overview of the New Reactors Business Line (Public Meeting) (Contact: Donna Williams: 301-415-1322)

This meeting will be webcast live at the Web address— http://www.nrc.gov/.

Week of October 24, 2016—Tentative

Thursday, October 27, 2016

10:00 a.m. Program Review of Part 37 of Title 10 of the Code of Federal Regulations (10 CFR part 37) for the Protection of Risk-Significant Quantities of Radioactive Material (Public Meeting) (Contact: George Smith: 301-415-7201)

This meeting will be webcast live at the Web address— http://www.nrc.gov/.

Week of October 31, 2016—Tentative

Friday, November 4, 2016

10:00 a.m. Briefing on Security Issues (Closed Ex. 1)

Week of November 7, 2016—Tentative

There are no meetings scheduled for the week of November 7, 2016.

Week of November 14, 2016—Tentative

There are no meetings scheduled for the week of November 14, 2016.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: October 5, 2016.
Denise L. McGovern,
Policy Coordinator, Office of the Secretary.

[FR Doc. 2016-24563 Filed 10-6-16; 11:15 am]

BILLING CODE 7590-01-P